DEPARTMENT OF TRANSPORTATION

Office of the Secretary

Aviation Proceedings, Agreements Filed the Week Ending November 30, 2007

The following Agreements were filed with the Department of Transportation under Sections 412 and 414 of the Federal Aviation Act, as amended (49 U.S.C. 1383 and 1384) and procedures governing proceedings to enforce these provisions. Answers may be filed within 21 days after the filing of the application.

Docket Number: DOT-OST-2007-0083.

Date Filed: November 28, 2007.

Parties: Members of the International Air Transport Association.

Subject TC31 Between USA and Korea (Rep. of), Malaysia; Expedited Resolution 002aj (Memo PTC31 N&C 0420). Intended effective date: 15 December 2007.

Docket Number: DOT-OST-2007-0085.

Date Filed: November 28, 2007.

Parties: Members of the International Air Transport Association.

Subject TC31 North and Central Pacific TC3; (Except Japan)—North America, Carribean; (Except between Korea (Rep. of), Malaysia and USA; Expedited Resolution 002ah (Memo PTC31 N&C 0422). Intended effective date: 15 December 2007.

Docket Number: DOT-OST-2007-0087.

Date Filed: November 28, 2007.

Parties: Members of the International Air Transport Association.

Subject Mail Vote 555—Resolution 010bb; TC3, TC23, TC31 Malaysia—TC1, TC2, TC3; Special Cargo Amending Resolution from Malaysia to TC1, TC2, TC3. Intended effective date: 1 February 2008.

Docket Number: DOT-OST-2007-0089.

Date Filed: November 28, 2007.

Parties: Members of the International Air Transport Association.

Subject Mail Vote 549 TC23 Europe-South East Asia Expedited Composite Resolutions. Intended effective date: 1 December 2007.

Docket Number: DOT-OST-2007-0091.

Date Filed: November 28, 2007.

Parties: Members of the International Air Transport Association.

Subject Mail Vote 549—Flex Fares Package; TC23 Europe-South East Asia; Expedited Resolution 250n (PTC23 0268). Intended effective date: 1 December 2007.

Renee V. Wright,
Program Manager, Docket Operations, Federal Register Liaison.

[FR Doc. E8-5540 Filed 3-18-08; 8:45 am]

BILLING CODE 4910-9X-P